DEPARTMENT OF COMMERCE

International Trade Administration

[A-583-844]

Narrow Woven Ribbons With Woven Selvedge From Taiwan: Final Results of Antidumping Duty Administrative Review; 2010-2011

AGENCY: Import Administration, International Trade Administration, Department of Commerce.

SUMMARY: On June 4, 2012, the Department of Commerce (the Department) published the preliminary results of the first administrative review of the antidumping duty order on narrow woven ribbons with woven selvedge (narrow woven ribbons) from Taiwan. The period of review (POR) is September 1, 2010, through August 31, 2011.

Based on our analysis of the comments received we have made no changes to the dumping margin assigned to Hubschercorp, the sole respondent in this administrative review. Therefore, the final results do not differ from the preliminary results. The final dumping margin for Hubschercorp is listed below in the section entitled “Final Results of Review.”

DATES: Effective Date: December 6, 2012.

FOR FURTHER INFORMATION CONTACT: Elizabeth Eastwood, AD/CVD Operations, Office 2, Import Administration, International Trade Administration, U.S. Department of Commerce, 14th Street and Constitution Avenue NW., Washington, DC, 20230; telephone: (202) 482-3874.

SUPPLEMENTARY INFORMATION:

Background

This review covers one exporter, Hubschercorp. On June 4, 2012, the Department published in the Federal Register the preliminary results of administrative review of the antidumping duty order on narrow woven ribbons from Taiwan.¹

¹ See Narrow Woven Ribbons With Woven Selvedge From Taiwan: Preliminary Results of Antidumping Duty Administrative Review, 77 FR 32938 (June 4, 2012) (Preliminary Results).

In July 2012, we received a case brief from Hubschercorp (the respondent) and a rebuttal brief from Berwick Offray LLC and its wholly-owned subsidiary Lion Ribbon Company, Inc. (collectively, the petitioner). In September 2012, the Department held a public hearing at the request of Hubschercorp.

Also in September 2012, the Department extended the deadline for these final results until December 1, 2012. As explained in the memorandum from the Assistant Secretary for Import Administration, the Department has exercised its discretion to toll deadlines for the duration of the closure of the Federal Government from October 29, through October 30, 2012. Thus, all deadlines in this segment of the proceeding have been extended by two days. The revised deadline for the final results of this administrative review is now December 3, 2012.²

² See Memorandum to the Record from Paul Piquado, Assistant Secretary for Import Administration, regarding “Tolling of Administrative Deadlines As a Result of the Government Closure During Hurricane Sandy,” dated October 31, 2012.

The Department has conducted this administrative review in accordance with section 751 of the Tariff Act of 1930, as amended (the Act).

Scope of the Order

The scope of the order covers narrow woven ribbons with woven selvedge. The product is currently classified under the Harmonized Tariff Schedule of the United States (HTSUS) subheadings 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS numbers are provided for convenience and customs purposes, the written product description, available in Narrow Woven Ribbons With Woven Selvedge From Taiwan and the People's Republic of China: Amended Antidumping Duty Orders, 75 FR 56982 (September 17, 2010), remains dispositive.

Period of Review

The POR is September 1, 2010, through August 31, 2011.

Use of Facts Otherwise Available and Adverse Facts Available (AFA)

In the Preliminary Results, we determined that, due to Hubschercorp's lack of cooperation in the review, in accordance with section 776(a)(2)(A) of the Act, the use of facts available with an adverse inference was appropriate as the basis for the dumping margin for Hubschercorp. See Preliminary Results, 77 FR at 32940. Having considered the arguments raised by the parties in the case and rebuttal briefs, we continue to find that the application of AFA is warranted, and have assigned to Hubschercorp a dumping margin of 137.20 percent. See the Issues and Decision Memorandum accompanying these final results.

Analysis of Comments Received

All issues raised in the case and rebuttal briefs by parties in this administrative review are listed in the Appendix to this notice and addressed in the Issues and Decision Memorandum, which is adopted by this notice.

The Issues and Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://www.trade.gov/ia/. The signed Issues and Decision Memorandum and the electronic versions of the Issues and Decision Memorandum are identical in content.

Changes Since the Preliminary Results

Based on our analysis of the comments received, we have made no changes to the margin assigned to Hubschercorp. For further discussion, see the Issues and Decision Memorandum.

Final Results of Review

We determine that the following dumping margin exists for the period September 1, 2010, through August 31, 2011:

Manufacturer/exporter | Percent margin
Hubschercorp | 137.20

Assessment Rates

The Department shall determine, and U.S. Customs and Border Protection (CBP) shall assess, antidumping duties on all appropriate entries of subject merchandise in accordance with the final results of this review. See generally 19 CFR 351.212. The Department intends to issue assessment instructions to CBP 15 days after the date of publication of these final results of review.

For Hubschercorp's U.S. sales, we will base the assessment rate assigned to the corresponding entries on AFA, determined as noted above.

Cash Deposit Requirements

The following cash deposit requirements will be effective for all shipments of subject merchandise entered, or withdrawn from warehouse, for consumption on or after the publication date of the final results of this administrative review, as provided for by section 751(a)(2)(C) of the Act: (1) The cash deposit rate for Hubschercorp will be the rate shown above; (2) for previously investigated companies not listed above, the cash deposit rate will continue to be the company-specific rate published in the LTFV investigation; (3) if the exporter is not a firm covered in this review, or the LTFV investigation, but the manufacturer is, the cash deposit rate will be the rate established in the LTFV investigation for the manufacturer of the merchandise; and (4) the cash deposit rate for all other manufacturers or exporters will continue to be 4.37 percent, the all-others rate made effective by the LTFV investigation.³ These deposit requirements, when imposed, shall remain in effect until further notice.

³ See Notice of Final Determination of Sales at Less than Fair Value: Narrow Woven Ribbons with Woven Selvedge from Taiwan, 75 FR 41804 (July 19, 2010).

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act.

Dated: November 29, 2012.
Ronald K. Lorentzen,
Acting Assistant Secretary for Import Administration.

Appendix—Issues in Decision Memorandum

Company-Specific Comments

1. Use of Highest Petition Rate as Adverse Facts Available (AFA).

2. Application of AFA Rate to Hubschercorp's Exports.

[FR Doc. 2012-29542 Filed 12-5-12; 8:45 am]

BILLING CODE 3510-DS-P